DEPARTMENT OF ENERGY

Federal Energy Regulatory Commission

Combined Notice of Filings #2

Take notice that the Commission received the following electric rate filings:

Docket Numbers: ER13-1188-010.

Applicants: Pacific Gas and Electric Company.

Description: Pacific Gas and Electric Company. submits Wholesale Distribution Tariff Rate Case 2013 (WDT2) Compliance Filing to be effective 11/1/2013.

Filed Date: 6/17/13.

Accession Number: 20130617-5066.

Comments Due: 5 p.m. ET 7/8/13.

Docket Numbers: ER13-1188-011.

Applicants: Pacific Gas and Electric Company.

Description: Pacific Gas and Electric Company. submits Wholesale Distribution Tariff Rate Case 2013 (WDT2) Compliance Filing, CCSF to be effective 11/1/2013.

Filed Date: 6/17/13.

Accession Number: 20130617-5079.

Comments Due: 5 p.m. ET 7/8/13.

Docket Numbers: ER13-1188-012.

Applicants: Pacific Gas and Electric Company.

Description: Pacific Gas and Electric Company. submits Wholesale Distribution Tariff Rate Case 2013 (WDT2) Compliance Filing, HMU to be effective 11/1/2013.

Filed Date: 6/17/13.

Accession Number: 20130617-5091.

Comments Due: 5 p.m. ET 7/8/13.

Docket Numbers: ER13-1188-013.

Applicants: Pacific Gas and Electric Company.

Description: Pacific Gas and Electric Company. submits Wholesale Distribution Tariff Rate Case 2013 (WDT2) Compliance Filing, LID to be effective 11/1/2013.

Filed Date: 6/17/13.

Accession Number: 20130617-5096.

Comments Due: 5 p.m. ET 7/8/13.

Docket Numbers: ER13-1700-000.

Applicants: KASS Commodities.

Description: KASS Commodities submits KASS Commodities MBR Filing to be effective 7/8/2013.

Filed Date: 6/17/13.

Accession Number: 20130617-5067.

Comments Due: 5 p.m. ET 7/8/13.

Docket Numbers: ER13-1701-000.

Applicants: PJM Interconnection, L.L.C.

Description: PJM Interconnection, L.L.C. submits Original Service Agreement No. 3577—Queue Position Y1-086 to be effective 5/16/2013.

Filed Date: 6/17/13.

Accession Number: 20130617-5071.

Comments Due: 5 p.m. ET 7/8/13.

Docket Numbers: ER13-1702-000.

Applicants: Indigo Generation LLC.

Description: Indigo Generation LLC submits Market-Based Rate Tariff Revision to be effective 6/18/2013.

Filed Date: 6/17/13.

Accession Number: 20130617-5072.

Comments Due: 5 p.m. ET 7/8/13.

Docket Numbers: ER13-1703-000.

Applicants: Larkspur Energy LLC.

Description: Larkspur Energy LLC submits Market-Based Rate Tariff Revision to be effective 6/18/2013.

Filed Date: 6/17/13.

Accession Number: 20130617-5073.

Comments Due: 5 p.m. ET 7/8/13.

Docket Numbers: ER13-1704-000.

Applicants: Wildflower Energy LP.

Description: Wildflower Energy LP submits Market-Based Rate Tariff Revision to be effective 6/18/2013.

Filed Date: 6/17/13.

Accession Number: 20130617-5074.

Comments Due: 5 p.m. ET 7/8/13.

Docket Numbers: ER13-1705-000.

Applicants: Mariposa Energy, LLC.

Description: Mariposa Energy, LLC submits Market-Based Rate Tariff Revision to be effective 6/18/2013.

Filed Date: 6/17/13.

Accession Number: 20130617-5075.

Comments Due: 5 p.m. ET 7/8/13.

Docket Numbers: ER13-1706-000.

Applicants: Western Reserve Energy Services, LLC.

Description: Western Reserve Energy Services, LLC submits tariff filing per 35.13(a)(2)(iii: MBR Tariff to be effective 6/20/2013.

Filed Date: 6/17/13.

Accession Number: 20130617-5101.

Comments Due: 5 p.m. ET 7/8/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 17, 2013.
Nathaniel J. Davis, Sr.,
Deputy Secretary.

[FR Doc. 2013-15394 Filed 6-26-13; 8:45 am]

BILLING CODE 6717-01-P